DEPARTMENT OF TRANSPORTATION

Federal Transit Administration

Intent To Prepare an Environmental Impact Statement for Improvements to the Danbury Rail Branch in Connecticut

AGENCY: Federal Transit Administration (FTA), U.S. Department of Transportation (DOT).

ACTION: Notice of intent to prepare an Environmental Impact Statement.

SUMMARY: The Federal Transit Administration (FTA) and the Connecticut Department of Transportation (ConnDOT), in cooperation with the Southwest Regional Planning Agency and Housatonic Valley Council of Elected Officials, intend to prepare an Environmental Impact Statement (EIS) on proposed commuter rail transit service and infrastructure improvements along the New Haven Line, Danbury Branch Rail Line in Connecticut. The New York Metropolitan Transportation Authority's Metro North Railroad operates the New Haven Rail Line service for ConnDOT and is a cooperating agency in the EIS process.

The EIS will be prepared in accordance with the National Environmental Policy Act of 1969 (NEPA) and its implementing regulations by the Council on the Environmental Quality (40 CFR parts 1500-1508) and FTA/FHWA (23 CFR 771), as well as provisions of section 6002 of the Safe, Accountable, Flexible, Efficient Transportation Equity Act: A Legacy for Users (SAFETEA-LU). The Draft EIS will be combined with the planning Alternatives Analysis required by Federal Transit law [49 U.S.C. 5309(a)] for projects proposed for New Starts or Small Starts funding.

The purpose of this notice is to alert interested parties regarding the intent to prepare the EIS, to provide and solicit information on the nature of the proposed project and possible alternatives, to invite public participation in the NEPA process (including providing comments on the scope of the EIS), and to announce that three public scoping meetings will be conducted.

DATES: A series of three public scoping meetings will be held in the project's study area. The public scoping meetings will be held the week of June 16, 2008 from 6 p.m. to 8 p.m. in the Towns of Wilton, Ridgefield, and New Milford, Connecticut. The following is the meeting schedule: Tuesday, June 17th 2008, E. Paul Martin Room, Town Hall, Top Floor, 10 Main Street, New Milford, CT 06776; Wednesday, June 18th, 2008, Town Hall Annex Building, Meeting Room A, 238 Danbury Road, Wilton, CT 06897; Thursday, June 19th 2008, Town Hall large conference room, Ridgefield Town Hall, 400 Main Street, Ridgefield, CT 06877. The project's initial statement of purpose and need, and the initial set of alternatives proposed for the study will be presented at these meetings. Comments may be given verbally or in writing at the scoping meeting. Every reasonable effort will be made to meet special needs. The meetings locations will be accessible to persons with disabilities. Individuals who require special accommodations, such as sign language interpreter, to participate in the meeting should contact Mr. Judd Everhart, Public Relations Office, Connecticut Department of Transportation, 2800 Berlin Turnpike, Newington, CT 06131-7546 or by telephone at (860) 594-3003.

Agency Scoping Meeting: An agency scoping meeting will be held on Tuesday, June 17, 2008, 1-3 p.m., City Hall, 155 Deer Hill Avenue, Danbury, CT 06810. Meeting invitations along with the scoping information packet will be sent to all Federal, State, local and tribal governmental agencies that may have an interest in the proposed project.

ADDRESSES: Written comments should be sent to the following address by July 25, 2008: Mr. Andrew H. Davis, Connecticut Department of Transportation, 2800 Berlin Turnpike, Newington, CT 06131-7546 or http://www.andrew.h.davis@po.state.ct.us. The locations of the scoping meetings are given above under DATES.

FOR FURTHER INFORMATION CONTACT: Mr. Donald Burns, AICP, Senior Planner, Region II, Federal Transit Administration, One Bowling Green, Room 429, New York, NY 10004. Telephone: (212) 668-2170.

SUPPLEMENTARY INFORMATION: The Feasibility Study: Danbury Branch Electrification—Phase I (Feasibility Study), completed in 2006, developed the alternatives being considered in the Alternatives Analysis/Draft EIS (AA/DEIS) for the New Haven Line's commuter rail branch line service between Norwalk and Danbury. The Feasibility Study identified, reviewed, and evaluated a range of preliminary improvements to the Branch, including electrification, addition of passing sidings, extension of rail passenger commuter service to New Milford, and track realignments. Public information meetings were held on November 29, 2005 at the Wilton Town Hall Annex and on December 1, 2005 at the former New Milford Railroad Station, to present and discuss the results of the Feasibility Study and the alternatives recommended for further consideration in the AA/DEIS. A scoping coordination meeting was held on July 11, 2006 to discuss the scope of work with the Federal and State resource agencies, including the environmental resources to be investigated, the level of detail required for each resource, and further refinement of the alternatives.

The AA/DEIS will continue the evaluation initiated in the Feasibility Study with more detailed analysis. The Feasibility Study documentation and Final Report was published in May 2006 and can be viewed on the project Web site at http://www.danburybranchstudy.com.

I. Scoping

Scoping of the EIS will be accomplished through public meetings; e-mail and hard copy correspondence with interested individuals and organizations, Federal, State, and local agencies, and Native American Tribes; and through a meeting with potential cooperating and participating public agencies. Interested parties may comment by: (1) Mailing or e-mailing written comments to the address under ADDRESSES above; or (2) attending one of the public scoping meetings described under DATES above. The FTA and ConnDOT invite all interested individuals and organizations, public agencies, and Native American Tribes to comment on the scope of the EIS including the project's purpose and need, the alternatives to be considered, the impacts to be evaluated, and the evaluation methodologies to be used. Comments at this stage should focus on refining the purpose and need statement, identifying alternatives to meet the purpose and need at lower cost or with less impact, and on identifying specific social, economic, or environmental impacts to be evaluated. The scoping period will end July 25, 2008. A scoping information packet will be posted on the project Web site at http://www.danburybranchstudy.com and hard copies of the packet will be distributed upon request.

During the scoping process, ConnDOT and FTA will comply with section 6002 of the Safe, Accountable, Flexible, Efficient Transportation Equity Act: A Legacy for Users (SAFETEA-LU) requires that the lead agencies: (1) Extend an invitation to other Federal and non-Federal agencies and Native American tribes that may have an interest in the proposed project to become participating agencies; (2) provide an opportunity for involvement by participating agencies and the public in defining the purpose and need for the proposed project and the range of alternatives to be considered in the EIS; and (3) establish a plan for coordinating public and agency participation in, and comment on, the environmental review process.

II. Purpose and Need

The preliminary statement of the purpose of, and need for, the proposed project follows:

The purpose of the Danbury Branch Improvement Program and Electrification is to improve mobility options for the traveling public in the South Western and Housatonic Valley regions of Connecticut; to maintain and improve existing commuter rail service on the Branch, as well as to improve its feeder system and intermodal connections on the Branch; and to help reduce congestion in the Route 7 corridor between South Norwalk, CT and New Milford, CT.

To accomplish these purposes, the following specific objectives are defined:

• Improve interstate and intrastate transit mobility, along the north-south South Norwalk—New Milford Corridor.

• Examine enhancements to existing transit services in the corridor by electrifying the branch or portions of it.

• Enhance economic development and Transit Oriented Development (TOD) opportunities in conjunction with participating cities and towns land use plans.

• Improve mobility in the South Norwalk—New Milford Corridor by attracting trips to transit service.

Interested parties are invited to consider and comment on this preliminary statement of the purpose and need for the proposed project.

III. Alternatives

The general location of the study corridor is the existing Danbury Branch Rail Line which traverses 23.6 miles from South Norwalk, through Wilton, Cannondale, Branchville, Redding, and Bethel to Danbury, and the potential extension of the line 14.3 miles into New Milford. The project termini would be the existing branch line's southern terminus at its connection with the New Haven Line in South Norwalk, and the proposed new northern terminus in New Milford. The EIS will examine and evaluate a number of rail service and infrastructure improvement alternatives in the corridor. Additional alternatives generated by the scoping process as well as alternative station locations for the Build alternatives will also be considered.

The alternatives proposed for consideration in the EIS as a result of the Feasibility Study (2006) include: (A) The No-build alternative; (B) a Transportation System Management alternative, which include service improvements such as new outbound service, and express service; (C) South Norwalk to Danbury Improvements including electrification, addition of passing sidings, and minor track realignment; (D) extension of diesel passenger service from Danbury to New Milford with improvements including new stations and minor track realignment; and (E) partial electrification from South Norwalk to the vicinity of the Merritt 7 Station with feeder bus/rail service to complement the new service. The EIS will incorporate data and findings from the Final Report of the Feasibility Study Danbury Branch Electrification (May 2006). Copies of this report are available from Mr. Andrew H. Davis of ConnDOT at the address shown above under ADDRESSES and on the project Web site at http://www.danburybranchstudy.com. Interested parties are invited to consider and comment on the alternatives proposed for consideration in the AA/DEIS.

IV. Probable Effects

FTA and ConnDOT will evaluate all significant environmental and community impacts of the alternatives that emerge from the scoping process. FTA expects the major issue to be rail noise and vibration impacts at nearby residences, property acquisition and relocation of the businesses and residences located on the acquired properties. These and any other impacts will be evaluated for both the construction period and for the long-term period of operation. Measures to mitigate adverse impacts will be developed for the AA/DEIS and finalized in the Final EIS. Interested parties are invited to consider and comment on the impacts to be evaluated in the AA/DEIS and on options and measures to avoid, minimize and mitigate adverse impacts.

V. FTA Procedures

In accordance with 23 CFR 771.105(a) and 771.133, FTA and ConnDOT will comply with all Federal environmental laws, regulations, and executive orders applicable to the proposed project during the environmental review process. These requirements include, but are not limited to, the environmental and public hearing provisions of Federal transit laws (49 U.S.C. 5301(e), 5323(b), and 5324); the project-level air quality conformity regulation of the U.S. Environmental Protection Agency (EPA) (40 CFR Part 93); Section 404(b)(1) guidelines of EPA (40 CFR Part 230); the regulation implementing Section 106 of the National Historic Preservation Act (36 CFR Part 800); the regulation implementing section 7 of the Endangered Species Act (50 CFR Part 402); Section 4(f) of the Department of Transportation Act (23 CFR part 774); and Executive Orders 12898 on Environmental Justice, 11988 on Floodplain Management, and 11990 on Wetlands.

ConnDOT anticipates seeking federal assistance from the FTA to fund the proposed project under 49 United States Code 5309 and will, therefore, be subject to regulations (49 Code of Federal Regulations (CFR) Part 611). Accordingly, following the public comment period for the AA/DEIS, ConnDOT will select a locally preferred alternative based on ridership forecasts, service performance evaluation, estimated capital and operating costs, environmental impacts, social and economic impacts, and community support. ConnDOT will seek FTA approval to initiate Small Starts Project Development, and if FTA so approves, the Final EIS will be prepared in conjunction with the New Starts/Small Starts process.

Date Issued: May 21, 2008.
Brigid Hynes-Cherin,
Regional Administrator, Federal Transit Administration.

[FR Doc. E8-12098 Filed 5-29-08; 8:45 am]

BILLING CODE 4910-57-P